OFFICE OF THE UNITED STATES TRADE REPRESENTATIVE

Section 306 Monitoring of Paraguay: Memorandum of Understanding on Intellectual Property Rights: Request for Public Comment

AGENCY: Office of the United States Trade Representative.

ACTION: Request for written submissions from the public.

SUMMARY: In January 1998, the USTR designated Paraguay as a Priority Foreign Country in the 1998 Special 301 Report. A Section 301 investigation was initiated in February 1998, and was suspended in November 1998 after the United States and Paraguay successfully entered into a Memorandum of Understanding on Intellectual Property Rights. USTR subsequently announced that the MOU would be monitored through Section 306 of the Trade Act of 1974. USTR hereby requests written submissions from the public concerning Paraguay's implementation of the MOU on Intellectual Property Rights, and additional actions that Paraguay should take, if any, to improve the protection and enforcement of intellectual property rights.

Dates: Submissions from the general public and foreign governments must be received by Tuesday, October 18, 2011.

ADDRESSES: All comments should be sent electronically to http://www.regulations.gov, docket number USTR-2011-0013. Submissions should contain the term “Paraguay Memorandum of Understanding on Intellectual Property Rights” in the “Type comment” field on http://www.regulations.gov.

FOR FURTHER INFORMATION CONTACT: Paula Karol Pinha, Director, Intellectual Property and Innovation, Office of the United States Trade Representative, at (202) 395-5419.

SUPPLEMENTARY INFORMATION: Section 182 of the Trade Act of 1974 (Trade Act) (19 U.S.C. 2242) requires the United States Trade Representative (USTR) to identify countries that deny adequate and effective protection of intellectual property rights (IPR) or deny fair and equitable market access to U.S. persons who rely on intellectual property protection. (The provisions of Section 182 are commonly referred to as the “Special 301” provisions of the Trade Act.) The USTR is required to determine which, if any, of these countries should be identified as Priority Foreign Countries. Countries placed on the Priority Foreign Country list are found to have the most onerous or egregious acts, policies, or practices and whose acts, policies, or practices have the greatest adverse impact (actual or potential) on the relevant U.S. products. Priority Foreign Countries are subject to an investigation under the Section 301 provisions of the Trade Act of 1974.

In 1998, the USTR identified Paraguay as a Priority Foreign Country in the 1998 Special 301 Report. A Section 301 investigation was initiated in February 1998, and was suspended in November 1998 after the United States and Paraguay entered into a Memorandum of Understanding on Intellectual Property Rights (the “MOU”) that included an Enforcement Action Plan to address the issues that were the subject of the Section 301 investigation. The MOU has been extended since 1998, and it was renegotiated in 2008 to address legislative developments and to better tailor key objectives for the enforcement of intellectual property rights. The MOU is scheduled to expire as of December 31, 2011.

The current MOU includes commitments by Paraguay to protect intellectual property rights and implement effective enforcement mechanisms and practices against intellectual property rights violations. It also includes commitments with respect to transparency in the administration of intellectual property rights, and reporting of enforcement related activities, and commitments with respect to training of government officials. The MOU includes an enforcement action plan and a consultation mechanism for addressing matters related to the MOU.

USTR hereby requests written submissions from the public concerning Paraguay's implementation of the MOU on Intellectual Property Rights, and, if applicable, any additional actions that Paraguay should take to improve the protection and enforcement of intellectual property rights, and any provisions that should be included in the MOU to make it more effective. USTR requests that, where relevant, submissions mention particular examples of which acts, policies, or practices in Paraguay deserve special attention. Submissions may report positive or negative developments with respect to the protection and enforcement of intellectual property rights in Paraguay and market access for U.S. persons who rely on intellectual property.

Requirements for comments: Comments should include a description of the problems or positive developments and the effect of the acts, policies, and practices on U.S. industry. Comments should be as detailed as possible and should provide all necessary information for assessing the effect of the acts, policies, and practices at issue. Any comments that include quantitative loss claims should be accompanied by the methodology used in calculating such estimated losses. Comments must be in English. All comments should be sent electronically to http://www.regulations.gov, docket number USTR-2011-0013.

To submit comments to http://www.regulations.gov, enter docket number USTR-2011-0013 on the home page and click “search.” The site will provide a search-results page listing all documents associated with this docket. Find a reference to this notice by selecting “Notice” under “Document Type” on the left side of the search-results page, and click on the link entitled “Submit a comment.” (For further information on using the http://www.regulations.gov Web site, please consult the resources provided on the Web site by clicking on “How to Use This Site” on the left side of the home page).

The http://www.regulations.gov site provides the option of providing comments by filling in a “Type comment” field, or by attaching a document. It is expected that most comments will be provided in an attached document. If a document is attached, it is sufficient to type “See attached” in the “Type comment” field. However, all submissions should contain the term “Paraguay Memorandum of Understanding on Intellectual Property Rights” in the “General Comments” field.

A person requesting that information contained in a comment submitted by that person be treated as confidential business information must certify that such information is business confidential and would not customarily be released to the public by the submitter. Confidential business information must be clearly designated as such, the submission must be marked “Business Confidential” at the top and bottom of the cover page and each succeeding page, and should indicate using brackets the specific information which is confidential. Any comment containing business confidential information must be accompanied by a non-confidential summary of the confidential information. The non-confidential summary will be placed in the docket and open to public inspection.

USTR will maintain a docket on the Paraguay Memorandum of Understanding on Intellectual Property Rights, accessible to the public. The public file will include non-confidential comments received by USTR from the public, including foreign governments, with respect to the Paraguay Memorandum of Understanding on Intellectual Property Rights.

Public inspection of submissions: Comments will be placed in the docket and open to public inspection pursuant to 15 CFR 2006.13, except confidential business information exempt from public inspection in accordance with 15 CFR 2006.15. Comments may be viewed on the http://www.regulations.gov Web site by entering docket number USTR-2011-0013 in the search field on the home page.

Stanford K. McCoy,
Assistant USTR for Intellectual Property and Innovation.

[FR Doc. 2011-24985 Filed 9-27-11; 8:45 am]

BILLING CODE 3190-W1-P